DEPARTMENT OF TRANSPORTATION

Federal Aviation Administration

14 CFR Part 71

[Docket No. FAA-2016-9295; Airspace Docket No. 16-AWP-16]

Amendment of Class E Airspace and Establishment of Class E En Route Airspace; Paso Robles, CA

AGENCY: Federal Aviation Administration (FAA), DOT.

ACTION: Final rule.

SUMMARY: This action modifies Class E surface area airspace, Class E airspace extending upward from 700 feet above the surface, and establishes Class E en route airspace at Paso Robles Municipal Airport, Paso Robles, CA. Also, the geographic coordinates of the airport are adjusted to match the current FAA aeronautical database. These changes are necessary to support new Instrument Flight Rules (IFR) standard instrument approach procedures at the airport and en route operations where the Federal airway structure is inadequate.

DATES: Effective 0901 UTC, June 22, 2017. The Director of the Federal Register approves this incorporation by reference action under Title 1, Code of Federal Regulations, part 51, subject to the annual revision of FAA Order 7400.11 and publication of conforming amendments.

ADDRESSES: FAA Order 7400.11A, Airspace Designations and Reporting Points, and subsequent amendments can be viewed on line at http://www.faa.gov/air_traffic/publications/. For further information, you can contact the Airspace Policy Group, Federal Aviation Administration, 800 Independence Avenue SW., Washington, DC 20591; telephone: 202-267-8783. The Order is also available for inspection at the National Archives and Records Administration (NARA). For information on the availability of this material at NARA, call 202-741-6030, or go to http://www.archives.gov/federal_register/code_of_federal-regulations/ibr_locations.html.

FAA Order 7400.11, Airspace Designations and Reporting Points, is published yearly and effective on September 15.

FOR FURTHER INFORMATION CONTACT: Tom Clark, Federal Aviation Administration, Operations Support Group, Western Service Center, 1601 Lind Avenue SW., Renton, WA 98057; telephone (425) 203-4511.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at Paso Robles Municipal Airport, Paso Robles, CA.

History

On November 10, 2016, the FAA published in the Federal Register a notice of proposed rulemaking (NPRM) to modify Class E surface area airspace, Class E airspace extending upward from 700 feet above the surface, and establish Class E en route airspace at Paso Robles Municipal Airport, Paso Robles, CA. (81 FR 78949) Docket No. FAA-2016-9295. Interested parties were invited to participate in this rulemaking effort by submitting written comments on the proposal to the FAA. No comments were received.

The FAA is transitioning from a system of ground based navigational aids, which are being decommissioned, to Global Navigation Satellite System (GNSS) for navigation and found airspace redesign necessary to support new GNSS standard instrument approach procedures and en route, point-to-point clearances for which the Federal airway structure is inadequate.

Except for an editorial change adding the airport name in the regulatory text for Class E en route airport, this rule is the same as published in the NPRM.

Class E airspace designations are published in paragraph 6002, 6005, and 6006, respectively, of FAA Order 7400.11A, dated August 3, 2016, and effective September 15, 2016, which is incorporated by reference in 14 CFR part 71.1. The Class E airspace designations listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This amendment to Title 14, Code of Federal Regulations (14 CFR) part 71 modifies Class E surface area airspace, Class E airspace extending upward from 700 feet above the surface, and establishes Class E en route airspace upward from 1,200 feet above the surface at Paso Robles Municipal Airport, Paso Robles, CA.

Class E surface airspace is modified to within a 5.7-mile radius of Paso Robles Municipal Airport (from a 5-mile radius), and language excluding the Hunter Low A, Hunter Low B, and Roberts Military Operations Areas is removed.

Class E airspace extending upward from 700 feet above the surface is slightly enlarged north and south of the airport to accommodate new Area Navigation (RNAV) Global Positioning System (GPS) standard instrument approach procedures developed for the airport.

Additionally, Class E en route airspace extending upward from 1,200 feet above the surface is established at the airport to adjoin the Monterey, Lemoore, Bakersfield, and Santa Barbara Class E airspace areas upward from 1,200 feet above the surface, to provide controlled airspace where the Federal airway structure is inadequate. Also, the geographic coordinates of the airport are adjusted to match the FAA's aeronautical database.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 6002 Class E Airspace Designated as Surface Areas.

* * * * *

AWP CA E2 Paso Robles, CA [Modified]

Paso Robles Municipal Airport, CA

(Lat. 35°40′22″ N., long. 120°37′38″ W.)

That airspace within a 5.7-mile radius of Paso Robles Municipal Airport.

Paragraph 6005 Class E Airspace Areas Extending Upward From 700 Feet or More Above the Surface of the Earth.

* * * * *

AWP CA E5 Paso Robles, CA [Modified]

Paso Robles Municipal Airport, CA

(Lat. 35°40′22″ N., long. 120°37′38″ W.)

That airspace extending upward from 700 feet above the surface within a 10.5-mile radius of Paso Robles Municipal Airport from the 351° bearing of the airport clockwise to the 040° bearing, and within a 5.7-mile radius from the 040° bearing of the airport clockwise to the 128° bearing, and within a 9-mile radius from the 128° bearing of the airport clockwise to the 168° bearing, and within a 7-mile radius from the 168° bearing of the airport clockwise to the 209° bearing, and within a 5.7-mile radius from the 209° bearing of the airport clockwise to the 323° bearing, and within 1.8 miles each side of the 341° bearing from the airport extending to 9.6 miles northwest of the airport.

Paragraph 6006 Class E En Route Airspace.

* * * * *

AWP CA E6 Paso Robles, CA [New]

Paso Robles Municipal Airport, CA

(Lat. 35°40′22″ N., long. 120°37′38″ W.)

That airspace extending upward from 1,200 feet above the surface at Paso Robles Municipal Airport within the area bounded by lat. 35°34′54″ N., long. 120°4′52″ W.; to lat. 35°43′55″ N., long. 120°4′52″ W.; to lat. 35°43′58″ N., long. 120°20′49″ W.; to lat. 36°8′51″ N., long. 120°39′41″ W.; to lat. 36°23′8″ N., long. 120°42′26″ W.; to lat. 36°23′13″ N., long. 121°3′25″ W.; to lat. 36°0′42″ N., long. 121°33′30″ W.; to lat. 35°37′48″ N., long. 121°21′48″ W.; to lat. 35°25′55″ N., long. 121°2′47″ W.; to lat. 35°32′43″ N., long. 121°2′47″ W.; to lat. 35°32′52″ N., long. 120°40′42″ W.; to lat. 35°22′10″ N., long. 120°32′00″ W; to lat. 35°31′44″ N., long. 120°14′50″ W.; to lat. 35°35′25″ N., long. 120°17′41″ W.; to the point of beginning.

Issued in Seattle, Washington, on April 13, 2017.
Sam S.L. Shrimpton,
Acting Group Manager, Operations Support Group, Western Service Center.

[FR Doc. 2017-08106 Filed 4-21-17; 8:45 am]

BILLING CODE 4910-13-P